ENVIRONMENTAL PROTECTION AGENCY

[EPA-HQ-SFUND-2013-0549; FRL-9904-10-OEI]

Information Collection Request Submitted to OMB for Review and Approval; Comment Request; Notification of Episodic Releases of Oil and Hazardous Substances (Renewal)

AGENCY: Environmental Protection Agency (EPA).

ACTION: Notice.

SUMMARY: The Environmental Protection Agency has submitted an information collection request (ICR), “Notification of Episodic Releases of Oil and Hazardous Substances (Renewal)” to the Office of Management and Budget (OMB) for review and approval in accordance with the Paperwork Reduction Act. This is a proposed extension of the ICR, which is currently approved through March 31, 2014. Public comments were previously requested via the Federal Register (78 FR 49265) on August 13, 2013, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before February 13, 2014

ADDRESSES: Submit your comments, referencing Docket ID Number EPA-HQ-SFUND-2013-0549, to (1) EPA online using www.regulations.gov (our preferred method), by email to superfund.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lynn M. Beasley, Office of Emergency Management, (5104A), Environmental Protection Agency, 1200 Pennsylvania Ave. NW., Washington, DC 20460; telephone number: 202-564-1965; fax number: 202-564-8222; email address: beasley.lynn@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

EPA ICR #: 1049.13.

OMB Control #: 2050-0046.

Abstract: Section 103(a) of CERCLA, as amended, requires the person in charge of a facility or vessel to immediately notify the National Response Center (NRC) of a hazardous substance release into the environment if the amount of the release equals or exceeds the substance's reportable quantity (RQ) limit. The RQ of every hazardous substance can be found in Table 302.4 of 40 CFR 302.4.

Section 311 of the CWA, as amended, requires the person in charge of a vessel to immediately notify the NRC of an oil spill into U.S. navigable waters if the spill causes a sheen, violates applicable water quality standards, or causes a sludge or emulsion to be deposited beneath the surface of the water or upon adjoining shorelines.

The reporting of a hazardous substance release that is at or above the substance's RQ allows the Federal government to determine whether a Federal response action is required to control or mitigate any potential adverse effects to public health or welfare or the environment. Likewise, the reporting of oil spills allows the Federal government to determine whether cleaning up the oil spill is necessary to mitigate or prevent damage to public health or welfare or the environment.

Form numbers: None.

Respondents/affected entities: Private entities.

Respondent's obligation to respond: Mandatory CERCLA section 103(a); CWA section 311.

Estimated number of respondents: 23,864.

Frequency of response: On occasion.

Total estimated burden: 97,842 hours (per year). Burden is defined at 5 CFR 1320.03(b).

Total estimated cost: $3,320,485 (per year), includes $0 annualized capital or operation & maintenance costs.

Changes in the estimates: There is a decrease of 726 hours in the total estimated respondent burden compared with the ICR currently approved by OMB. This decrease is because the projected number of release notifications per annum in this ICR is less than the number of release notifications per annum in the previous ICR. Projections are based on the number of actual releases reported in the prior three year period.

John Moses,
Director, Collection Strategies Division.

[FR Doc. 2014-00454 Filed 1-13-14; 8:45 am]

BILLING CODE 6560-50-P